NATIONAL AERONAUTICS AND SPACE ADMINISTRATION

[Notice: (14-112)]

National Space-Based Positioning, Navigation, and Timing (PNT) Advisory Board; Meeting

AGENCY: National Aeronautics and Space Administration (NASA).

ACTION: Notice of meeting.

SUMMARY: In accordance with the Federal Advisory Committee Act, Public Law 92-463, as amended, and the President's 2004 U.S. Space-Based Positioning, Navigation, and Timing (PNT) Policy, the National Aeronautics and Space Administration (NASA) announces a meeting of the National Space-Based Positioning, Navigation, and Timing (PNT) Advisory Board.

DATES: Wednesday, December 10, 2014, 9:00 a.m. to 5:00 p.m.; and Thursday, December 11, 2014, 9:00 a.m. to 12:00 p.m., Local Time.

ADDRESSES: The Omni Shoreham Hotel, Hampton Ballroom, 2500 Calvert Street NW., Washington, DC 20008.

FOR FURTHER INFORMATION CONTACT: Mr. James J. Miller, Human Exploration and Operations Mission Directorate, NASA Headquarters, Washington, DC 20546, (202) 358-4417, fax (202) 358-4297, or jj.miller@nasa.gov.

SUPPLEMENTARY INFORMATION: The meeting will be open to the public up to the seating capacity of the room. Visitors will be requested to sign a visitor's register.

The agenda for the meeting includes the following topics:

• Examine emerging trends and requirements for PNT services in U.S. and international arenas through PNT Board technical assessments.

• Update on U.S. Space-Based Positioning, Navigation and Timing (PNT) Policy and Global Positioning System (GPS) modernization.

• Prioritize current and planned GPS capabilities and services while assessing future PNT architecture alternatives with a focus on affordability.

• Examine methods in which to Protect, Toughen, and Augment (PTA) access to GPS/Global Navigation Satellite System (GNSS) services in key domains for multiple user sectors.

• Assess economic impacts of GPS on the United States and in select international regions, with a consideration towards effects of potential PNT service disruptions if radio spectrum interference is introduced.

• Explore opportunities for enhancing the interoperability of GPS with other emerging international GNSS.

It is imperative that the meeting be held on these dates to accommodate the scheduling priorities of the key participants.

Patricia D. Rausch,
Advisory Committee Management Officer, National Aeronautics and Space Administration.

[FR Doc. 2014-26774 Filed 11-12-14; 8:45 am]

BILLING CODE 7510-13-P